DEPARTMENT OF TRANSPORTATION

Federal Aviation Administration

Notice of Submission Deadline for Schedule Information for Chicago O'Hare International Airport, John F. Kennedy International Airport, Los Angeles International Airport, and San Francisco International Airport for the Summer 2020 Scheduling Season

AGENCY: Federal Aviation Administration (FAA), Department of Transportation.

ACTION: Notice of submission deadline.

SUMMARY: Under this notice, the FAA announces the submission deadline of October 3, 2019, for Summer 2020 flight schedules at Chicago O'Hare International Airport (ORD), John F. Kennedy International Airport (JFK), Los Angeles International Airport (LAX), and San Francisco International Airport (SFO). The deadline coincides with the schedule submission deadline for the International Air Transport Association (IATA) Slot Conference for the Summer 2020 scheduling season.

DATES: Schedules must be submitted no later than October 3, 2019.

ADDRESSES: Schedules may be submitted by mail to the Slot Administration Office, AGC-200, Office of the Chief Counsel, 800 Independence Avenue SW, Washington, DC 20591; facsimile: 202-267-7277; or by email to: 7-AWA-slotadmin@faa.gov.

FOR FURTHER INFORMATION CONTACT: Al Meilus, Manager (Acting), Slot Administration, AJR-G, Federal Aviation Administration, 800 Independence Avenue SW, Washington, DC 20591; telephone (202) 267-2822; email Al.Meilus@faa.gov.

SUPPLEMENTARY INFORMATION: This document provides routine notice to carriers serving capacity-constrained airports in the United States.

General Information for All Airports

The FAA has designated LAX, ORD, and SFO as IATA Level 2 airports ¹ and JFK as an IATA Level 3 airport consistent with the Worldwide Slot Guidelines (WSG).² The FAA currently limits scheduled operations at JFK by order that expires on October 24, 2020.³ The FAA has also designated Newark Liberty International Airport (EWR) as a Level 2 airport and intends to issue a separate schedule submission notice for EWR for the Summer 2020 season.

¹ These designations remain effective until the FAA announces a change in the Federal Register. The FAA suspended Level 2 schedule review at ORD on a trial basis for the Winter 2019/2020 scheduling season only. 84 FR 18630 (May 1, 2019).

² The FAA applies the WSG to the extent there is no conflict with U.S. law or regulation. The FAA is reviewing recent substantive amendments to the WSG adopted in version 10 and considering whether to implement certain changes in the U.S.

³ Operating Limitations at John F. Kennedy International Airport, 73 FR 3510 (Jan. 18, 2008), as amended 83 FR 46865 (Sep. 17, 2018). The slot coordination parameters for JFK are set forth in this Order.

The FAA is primarily concerned about scheduled and other regularly conducted commercial operations during peak hours, but carriers may submit schedule plans for the entire day. The peak hours for the Summer 2020 scheduling season are: At LAX and SFO from 0600 to 2300 Pacific Time (1300 to 0600 UTC), at ORD from 0600 to 2100 Central Time (1100 to 0200 UTC), and at JFK from 0600 to 2300 Eastern Time (1000 to 0300 UTC). These hours are unchanged from previous scheduling seasons. Carriers should submit schedule information in sufficient detail including, at minimum, the marketing or operating carrier, flight number, scheduled time of operation, frequency, aircraft equipment, and effective dates. IATA standard schedule information format and data elements for communications at Level 2 and Level 3 airports in the IATA Standard Schedules Information Manual (SSIM) Chapter 6 may be used. The WSG provides additional information on schedule submissions at Level 2 and Level 3 airports.

The U.S. summer scheduling season is from March 29, 2020, through October 24, 2020, in recognition of the IATA northern Summer scheduling period.

As stated in the WSG, schedule facilitation at a Level 2 airport is based on the following: (1) Schedule adjustments are mutually agreed upon between the airlines and the facilitator; (2) the intent is to avoid exceeding the airport's coordination parameters; (3) the concepts of historic precedence and series of slots do not apply at Level 2 airports; although WSG recommends giving priority to approved services that plan to operate unchanged from the previous equivalent season at Level 2 airports, and (4) the facilitator should adjust the smallest number of flights by the least amount of time necessary to avoid exceeding the airport's coordination parameters. Consistent with the WSG, the success of Level 2 in the U.S. depends on the voluntary cooperation of all carriers.

The FAA considers several factors and priorities as it reviews schedule and slot requests at Level 2 and Level 3 airports, which are consistent with the WSG, including—historic slots or services from the previous equivalent season over new demand for the same timings, services that are unchanged over services that plan to change time or other capacity relevant parameters, introduction of year-round services, effective period of operation, regularly planned operations over ad hoc operations, and other operational factors that may limit a carrier's timing flexibility. In addition to applying these priorities from the WSG, the U.S. Government has adopted a number of measures and procedures to promote competition and new entry at U.S. slot controlled and schedule facilitated airports.

At Level 2 airports, the FAA seeks to improve communications with carriers and terminal schedule facilitators on potential runway schedule issues or terminal and gate issues that may affect the runway times. The FAA also seeks to reduce the time that carriers consider proposed offers on schedules. Retaining open offers for extended periods of time may delay the facilitation process for the airport. Reducing this delay is particularly important to allow the FAA to make informed decisions at airports where operations in some hours are at or near the scheduling limits. The agency recognizes that there are circumstances that may require some schedules to remain open. However, the FAA expects to substantially complete the review process on initial submissions each scheduling season within 30 days of the end of the Slot Conference. After this time, the agency would confirm the acceptance of proposed offers, as applicable, or issue a denial of schedule requests.

Slot management in the U.S. differs in some respect from procedures in other countries. In the United States, the FAA is responsible for facilitation and coordination of runway access for takeoffs and landings at Level 2 and Level 3 airports; however, the airport authority or its designee is responsible for facilitation and coordination of terminal/gate/airport facility access. The process with the individual airports for terminal access and other airport services is separate from, and in addition to, the FAA schedule review based on runway capacity. Approval from the FAA for runway availability and the airport authority for airport facility availability is necessary before implementing schedule plans. Carriers seeking terminal approval should contact the schedule facilitator for that airport.

Generally, the FAA uses average hourly runway capacity throughput for airports and performance metrics in its schedule review at Level 2 airports and determining the scheduling limits at Level 3 airports included in FAA rules or orders.⁴ The FAA also considers other factors that can affect operations, such as capacity changes due to runway, taxiway, or other airport construction, air traffic control procedural changes, airport surface operations, and historical or projected flight delays and congestion.

⁴ The FAA typically determines an airport's average adjusted runway capacity or typical throughput for Level 2 airports by reviewing hourly data on the arrival and departure rates that air traffic control indicates could be accepted for that hour, commonly known as “called” rates. The FAA also reviews the actual number of arrivals and departures that operated in the same hour. Generally, the FAA uses the higher of the two numbers, called or actual, for identifying trends and schedule review purposes. Some dates are excluded from analysis, such as during periods when extended airport closures or construction could affect capacity.

Finally, the FAA notes that the schedule information submitted by carriers to the FAA may be subject to disclosure under the Freedom of Information Act (FOIA). The WSG also provides for release of information at certain stages of slot coordination and schedule facilitation. In general, once it acts on a schedule submission or slot request, the FAA may release information on slot allocation or similar slot transactions or schedule information reviewed as part of the schedule facilitation process. The FAA does not expect that practice to change and most slot and schedule information would not be exempt from release under FOIA. The FAA recognizes that some carriers may submit information on schedule plans that is both customarily and actually treated as private. Carriers that submit such confidential schedule information should clearly mark the information as “PROPIN”. The FAA will take the necessary steps to protect properly designated information to the extent allowable by law.

Level 2, FAA Designation Review

In the previous Notice of Submission Deadline published for the Winter 2019/2020 scheduling season, the FAA advised it was reviewing the Level 2 runway designations at LAX, ORD, and SFO to determine if the designations at these airports continue to be necessary for future scheduling seasons and announced a suspension on a trial basis of the Level 2 runway designation at ORD for Winter 2019/2020 schedules.⁵ The FAA also indicated it would engage with the airport operators, carriers, and other stakeholders to determine whether the FAA designation provides substantive benefits to the traveling public by reducing potential runway congestion and delay. The FAA reiterates that its review at LAX, ORD, and SFO was for runway purposes only as the separate airport facility designations are made by the local airport operator.

⁵ Notice of Submission Deadline for Schedule Information for John F. Kennedy International Airport, Los Angeles International Airport, Newark Liberty International Airport, and San Francisco International Airport for the Winter 2019/2020 Scheduling Season; Suspension of Level 2 at Chicago O'Hare International Airport, 84 FR 18630 (May 1, 2019).

The FAA held discussions with the airport operators of LAX, ORD, and SFO as well as various airlines serving the airports to obtain their views on whether Level 2 remains appropriate and whether the FAA's advance review of scheduled demand can yield improved performance. The FAA discussed the Level 2 review with airlines and airport operators in meetings at the 144th IATA Slot Conference, the domestic slot conference hosted by Airlines for America, as well as other individual meetings. No formal written comments were received. The FAA reviewed air traffic operations and constraints, performance metrics, and airport/airfield construction plans at the individual airports that might impact airport operations or capacity. The Air Traffic Organization and other FAA offices also regularly meet with stakeholders on national and local levels to address operational issues and ways to improve efficiency.

The FAA has determined that a Level 2 designation for LAX, ORD, and SFO remains appropriate at this time and these designations will remain in effect until the FAA announces a change in the Federal Register. The results of the FAA review for the individual airports are discussed below. The FAA will continue to monitor operations and demand at the airports and regularly consult with the airport operators and stakeholders to determine if a level change is warranted in the future.

LAX

LAX was designated Level 2 in 2015 based on multiple runway construction projects that were planned through 2018.⁶ Since that time, other runway and taxiway have been planned by the Los Angeles World Airports (LAWA), including a closure of Runway 7R/25L during parts of the Winter 2020/2021 and Summer 2021 scheduling seasons, and construction of taxiway exits on Runways 6L/24R and 6R/24L in the planning stages for 2022.

⁶ Notice of Submission Deadline for Schedule Information for Los Angeles International Airport for the Summer 2015 Scheduling Season, 80 FR 12253 (Mar. 6, 2015).

The FAA reviewed the recent scheduled demand at LAX, the typical airport arrival and departure rates with four available runways, how runway capacity was impacted with the series of runway construction projects since 2015, and the anticipated impacts when Runway 7R/25L closes for construction. Surface operations at LAX present a challenging air traffic operational environment with limited movement and holding areas, multiple taxiway and runway restrictions based on aircraft types and operating characteristics, and limitations due to the distance between the north runways. The airfield construction over the last few years and continuing with current and upcoming taxiway and terminal construction increases the operational complexity for runway configuration and surface movements.

Stakeholders did not have strong views on whether the FAA's schedule review is needed in the long term as LAWA is also actively managing gates and terminal access for international passenger flights, has relocated terminals and gates for multiple airlines to improve efficiency and better match airport facilities with airline operations, and recently deployed surface management tools. Stakeholders acknowledged LAWA efforts and some international operators viewed LAWA's schedule facilitation for terminal access as sufficient. Some airlines expressed concern that the airport has been under construction for significant portions of the past several years with ongoing taxiway and terminal construction and this has increased delays and operational challenges. Some expressed concern that it may not be appropriate to change the airport level and that it should be considered after the next runway closure and major construction projects are done. Some airlines indicated that they wanted to grow their operations at LAX in the future and the airport could benefit from Level 2 to help prevent delays through facilitation of voluntary schedule adjustments while others were concerned that under Level 2 they might not be able to operate at their preferred times. The airlines generally indicated there is minimal burden associated with providing schedules noting that they were already providing information to the airport for terminal planning purposes or that providing information to the FAA was largely an automated process. Airlines noted that providing schedule information to the FAA before it is final and, in many cases, before it is publicly available, allows the FAA to identify periods of potential congestion. Several airlines stated that if changes were needed to avoid or reduce delays, they would rather know as early as possible in the planning process when it is easier to adjust schedules.

The FAA has determined that Level 2 at LAX remains appropriate given the airport demand and the potential capacity impacts and anticipated operational impacts from the upcoming airport construction. The aircraft fleet mix includes a significant percentage of heavy aircraft that require additional spacing in the air and specific routings or other limitations on the surface. Multiple airlines operate at LAX as a hub airport or focus city and plan schedules independently. There are periods when scheduled demand is relatively high such as the morning and evening hours and excessive demand has the potential to increase air traffic delays. The schedule facilitation and cooperation by airlines to voluntarily make necessary schedule changes would continue to provide an opportunity to manage scheduled demand during upcoming construction.

ORD

The FAA designated ORD as Level 2 in 2008 to allow for a smoother transition as slot control under Level 3 was phased out with the opening of a new runway in November 2008.⁷ The FAA concluded that Level 2 was necessary to facilitate the scheduling of operations so that the airport would not suffer from periods of overscheduling as it adjusts to new capacity and as modernization plans continued.

⁷ Notice of Submission Deadline for Schedule Information for O'Hare International, John F. Kennedy International, and Newark Liberty International Airport for the Summer 2009 Scheduling Season, 73 FR 54659 (Sep. 22, 2008).

While it conducted its review of the ORD Level 2 designation, the FAA suspended the runway schedule review on a trial basis for the Winter 2019/2020 scheduling season noting that demand is typically within the airport's runway capacity. This suspension was for Winter 2019/2020 only and does not change the designation for any other scheduling season unless a subsequent change is announced. The FAA also indicated it would publish the findings of its broad review of the ORD Level 2 designation in the notice for the Summer 2020 scheduling season. The FAA noted when it announced the trial suspension that it was not aware of any major schedule or hub structure changes planned for the Winter 2019/2020 season and none are apparent based on currently published schedules. The FAA will continue to monitor schedules and operational data to assess if there are significant impacts or other issues related to the trial suspension that might inform future decisions.

The City of Chicago is continuing plans to improve the airport's throughput, efficiency, and terminal access. New construction of Runway 9C/27C is expected to continue through 2020. An extension of Runway 9R by about 3,000 feet and shortening of Runway 27L by about 300 feet and Terminal 5 expansion are in progress. Both projects are expected to continue into late 2021. Various taxiway construction projects are underway or planned for the next few years. Some of these projects, especially runway closures, impact capacity while others such as taxiway and terminal construction may limit surface movements and options for holding aircraft, or increase operational complexity in the short term. There is currently Level 2 schedule facilitation for Terminal 5 and the terminal is constrained at peak times.

Several airlines and the airport operator expressed support for continuation of Level 2 to address potential congestion issues over the next few years. Many of the statements made by airlines summarized in the LAX section of this Notice on submitting schedules for review, including a preference for early notice of adjustments, were also expressed with regard to ORD. No airlines expressed a preference for a change to Level 1 in the near term. Additionally, the FAA notes that ORD is uniquely situated as one of the few airports in the U.S. that is a major hub for two airlines, each of which has a substantial portion of the total operations at the airport. Currently, there is a degree of separation between the arrival and departure banks of the hub airlines that limits schedule peaking. There have been occasions when one or both airlines have changed schedule banks and overlapped schedules causing demand to exceed capacity. The resulting in delays and flight cancellations impacted ORD and other airports in the National Airspace System (NAS). The FAA worked with airlines to revise schedules. Until the changes were effective, there was significant impact to the operation and disruption to airline networks and passengers. The FAA finds that given ORD's demand and the importance of the airport to the NAS, the Level 2 process provides an opportunity to try to work with airlines to voluntarily adjust schedules before they take effect and reduce potential delays.

SFO

The FAA designated SFO as Level 2 effective in 2012 as a result of low on-time performance relative to other airports, expected growth in scheduled demand, and runway construction.⁸ Separately, the airport also had planned runway construction after the Level 2 designation was effective, which contributed to congestion. Today, the airport continues to have high demand in certain hours even with Level 2 and is limited in some cases by gate availability during peak hours. SFO continues to be one of the more delay-prone airports in the U.S. Since 2012, operations at SFO have increased about 10%, and the proportion of flights delayed has increased about one percentage point.⁹

⁸ Submission Deadline for Schedule Information for San Francisco International Airport for the Summer 2012 Scheduling Season, 76 FR 64163 (Oct. 17, 2011).

⁹ Source: OPSNET data based on 12-month rolling averages.

Stakeholders generally expressed support for retaining the Level 2 designation to help facilitate the movement of scheduled flights into less congested periods. Operationally, surface constraints limit holding and staging areas for aircraft and demand for gates remains high. Terminal 1 construction is underway and expected to be completed in 2022. SFO facilitates international passenger flights under the Level 2 process, which is complementary to the FAA runway review. As with LAX and ORD, airlines generally favored retaining the FAA's Level 2 designation. Some opined that SFO's runway layout limits the airport capacity, especially in adverse weather conditions, and the delays and performance strongly support continuing efforts under Level 2 to manage schedules and reduce delays. The FAA finds that the Level 2 process should be retained at SFO in order to facilitate voluntary schedule adjustments in an effort to reduce potential delay associated with growing scheduled demand.

Issued in Washington, DC, on September 24, 2019.
Michael C. Artist,
Vice President, System Operations Services.

[FR Doc. 2019-20986 Filed 9-26-19; 8:45 am]

BILLING CODE 4910-13-P